DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this ICR must be received no later than August 22, 2016.

ADDRESSES: Submit your comments to paperwork@hrsa.gov or mail the HRSA Information Collection Clearance Officer, Room 14N-39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Children's Hospitals Graduate Medical Education Payment Program Application and Full-Time Equivalent Resident Assessment Forms OMB No. 0915-0247 Revision.

Abstract: The Children's Hospitals Graduate Medical Education (CHGME) Payment Program was enacted by Public Law 106-129, and reauthorized by the CHGME Support Reauthorization Act of 2013 (Pub. L. 113-98) to provide Federal support for graduate medical education (GME) to freestanding children's hospitals. The legislation indicates that eligible children's hospitals will receive payments for both direct and indirect medical education. The CHGME Payment Program application and full-time equivalent (FTE) resident assessment forms received OMB clearance on June 30, 2014.

The CHGME Support Reauthorization Act of 2013 included a provision to allow certain newly qualified children's hospitals to apply for CHGME Payment Program funding. The CHGME Payment Program application forms have been revised to accommodate the new statute. In addition, a payment question included in the CHGME Payment Program application forms has been removed, since the participating children's hospitals are now required to electronically communicate their financial information to the Payment Management System through the Electronic Handbook.

The form changes are only applicable to the HRSA 99-1 (also known as Exhibit O (2)) and the HRSA 99-5. All other hospital and auditor forms are the same as currently approved. The changes to the HRSA 99-1 and HRSA 99-5 forms require OMB approval and are as follows:

1. HRSA 99-1: Add additional description to Line 4.06 (both Page 2 and Page 2 Supplemental), 5.06 and 6.06. The current description is, “FTE adjusted cap.” The new description will be, “FTE adjusted cap or 2013 CHGME Reauthorization cap due to Public Law 113-98.”

2. HRSA 99-5: Remove Payment Information question and check boxes (Applicable only to: (1) Hospitals which have not previously participated in the CHGME Payment Program, and (2) hospitals in which financial institution information has changed since submission of its last application).

Need and Proposed Use of the Information: Data on the number of FTE residents trained are collected from children's hospitals applying for CHGME Payment Program funding. These data are used to determine the amount of direct and indirect medical education payments to be distributed to participating children's hospitals. Indirect medical education payments will also be derived from a formula that requires the reporting of discharges, beds, and case mix index information from participating children's hospitals. As required by legislation, the FTE resident assessment shall determine any changes to the FTE resident counts initially reported to the CHGME Payment Program.

Likely Respondents: The likely respondents include both the estimated 60 children's hospitals that apply and receive CHGME Payment Program funding, as well as the 30 auditors contracted by HRSA to perform the FTE resident assessments of all the children's hospitals participating in the CHGME Payment Program. Children's hospitals applying for CHGME Payment Program funding are required by the CHGME Payment Program statute to submit data on the number of FTE residents trained in an annual application. Once funded by the CHGME Payment Program, these same children's hospitals are required to submit audited data on the number of FTE residents trained during the Federal fiscal year to participate in the reconciliation payment process. Contracted auditors are requested by HRSA to submit assessed data on the number of FTE residents trained by the children's hospitals participating in the CHGME Payment Program in an FTE resident assessment summary.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Application Cover Letter (Initial and Reconciliation) | 60 | 2 | 120 | 0.33 | 39.6
HRSA 99 (Initial and Reconciliation) | 60 | 2 | 120 | 0.33 | 39.6
HRSA 99-1 (Initial) | 60 | 1 | 60 | 26.5 | 1,590
HRSA 99-1 (Reconciliation) | 60 | 1 | 60 | 6.5 | 390
HRSA 99-1 (Supplemental) (FTE Resident Assessment) | 30 | 2 | 60 | 3.67 | 220.2
HRSA 99-2 (Initial) | 60 | 1 | 60 | 11.33 | 679.8
HRSA 99-2 (Reconciliation) | 60 | 1 | 60 | 3.67 | 220.2
HRSA 99-4 (Reconciliation) | 60 | 1 | 60 | 12.5 | 750
HRSA 99-5 (Initial and Reconciliation) | 60 | 2 | 120 | 0.33 | 39.6
CFO Form Letter (Initial and Reconciliation) | 60 | 2 | 120 | 0.33 | 39.6
Exhibit 2 (Initial and Reconciliation) | 60 | 2 | 120 | 0.33 | 39.6
Exhibit 3 (Initial and Reconciliation) | 60 | 2 | 120 | 0.33 | 39.6
Exhibit 4 (Initial and Reconciliation) | 60 | 2 | 120 | 0.33 | 39.6
FTE Resident Assessment Cover Letter (FTE Resident Assessment) | 30 | 2 | 60 | 0.33 | 19.8
Conversation Record (FTE Resident Assessment) | 30 | 2 | 60 | 3.67 | 220.2
Exhibit C (FTE Resident Assessment) | 30 | 2 | 60 | 3.67 | 220.2
Exhibit F (FTE Resident Assessment) | 30 | 2 | 60 | 3.67 | 220.2
Exhibit N (FTE Resident Assessment) | 30 | 2 | 60 | 3.67 | 220.2
Exhibit O(1) (FTE Resident Assessment) | 30 | 2 | 60 | 3.67 | 220.2
Exhibit O(2) (FTE Resident Assessment) | 30 | 2 | 60 | 26.5 | 1590
Exhibit P (FTE Resident Assessment) | 30 | 2 | 60 | 3.67 | 220.2
Exhibit P(2) (FTE Resident Assessment) | 30 | 2 | 60 | 3.67 | 220.2
Exhibit S (FTE Resident Assessment) | 30 | 2 | 60 | 3.67 | 220.2
Exhibit T (FTE Resident Assessment) | 30 | 2 | 60 | 3.67 | 220.2
Exhibit T(1) (FTE Resident Assessment) | 30 | 2 | 60 | 3.67 | 220.2
Exhibit 1 (FTE Resident Assessment) | 30 | 2 | 60 | 0.33 | 19.8
Exhibit 2 (FTE Resident Assessment) | 30 | 2 | 60 | 0.33 | 19.8
Exhibit 3 (FTE Resident Assessment) | 30 | 2 | 60 | 0.33 | 19.8
Exhibit 4 (FTE Resident Assessment) | 30 | 2 | 60 | 0.33 | 19.8
Total | * 90 |  | * 90 |  | 8018.4
* The total is 90 because the same hospitals and auditors are completing the forms.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of Executive Secretariat.

[FR Doc. 2016-14656 Filed 6-20-16; 8:45 am]

BILLING CODE 4165-15-P